Title 3—

The President

Proclamation 10996 of December 5, 2025

National Pearl Harbor Remembrance Day, 2025

By the President of the United States of America

A Proclamation

On December 7, 1941, a peaceful Sunday morning on the Hawaiian island of Oahu was shattered by an unprovoked attack by the naval and air forces of the Empire of Japan on the United States Pacific Fleet at Pearl Harbor and the aircraft and hangars at Kaneohe, Ford Island, Barbers Point, and Hickam Field. The surprise offensive claimed the lives of 2,403 American service members and civilians and propelled our Nation into the Second World War.

The Japanese mission was designed to cripple our military assets and obliterate the American spirit, but instead, the fatal attacks rallied our shattered citizenry and fueled our resolve. Young men from every corner of our country put their lives and futures on hold and were thrust into bloody and brutal battles of historic consequence that would forever change the world. Although untested in battle, these patriots, still reeling from horror and disbelief, united in a singular mission: to defeat tyranny. The exceptional courage and immeasurable sacrifices of the Greatest Generation secured our way of life and the blessings of freedom for future generations.

In the decades since the “date which will live in infamy,” the aggressor has become our loyal ally and trusted friend. Japan is one of our closest security partnerships, and our military forces work together every day to defend our common interests. We are united by commerce, history, culture, and mutual respect. Our strong alliance is a testament to the transformational power of peace, diplomacy, and democracy.

The lessons learned 84 years ago on that fateful day still resound with America's exceptional fighting force. We must remain ever vigilant and prepared to annihilate any foe who dares to threaten our liberty. This annual day of remembrance must be held in the highest esteem and reverence as we honor the Americans who laid down their lives to defend our homeland on the island of Oahu and in the battles of World War II.

The Congress, by Public Law 103-308, as amended, has designated December 7 of each year as “National Pearl Harbor Remembrance Day.”

NOW, THEREFORE, I, DONALD J. TRUMP, President of the United States of America, by virtue of the authority vested in me by the Constitution and the laws of the United States, do hereby proclaim December 7, 2025, as National Pearl Harbor Remembrance Day. I encourage all Americans to observe this solemn day and to honor our military, past and present, with appropriate ceremonies and activities. I urge all Federal agencies and interested organizations, groups, and individuals to fly the flag of the United States at half-staff in honor of those American patriots who died as a result of their service at Pearl Harbor.

IN WITNESS WHEREOF, I have hereunto set my hand this fifth day of December, in the year of our Lord two thousand twenty-five, and of the Independence of the United States of America the two hundred and fiftieth.

[FR Doc. 2025-22536

Filed 12-9-25; 11:15 am]

Billing code 3395-F4-P